COMMITTEE FOR PURCHASE FROM PEOPLE WHO ARE BLIND OR SEVERELY DISABLED

Procurement List Additions and Deletions

AGENCY: Committee for Purchase from People Who Are Blind or Severely Disabled.

ACTION: Additions to and Deletions from Procurement List.

SUMMARY: This action adds to the Procurement List products and a service to be furnished by nonprofit agencies employing persons who are blind or have other severe disabilities, and deletes from the Procurement List products previously furnished by such agencies.

EFFECTIVE DATE: December 28, 2003.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION:

Additions

On August 29, and October 3, 2003, the Committee for Purchase From People Who Are Blind or Severely Disabled published notice (68 FR 51962 and 57403) of proposed additions to the Procurement List.

After consideration of the material presented to it concerning capability of qualified nonprofit agencies to provide the products and service and impact of the additions on the current or most recent contractors, the Committee has determined that the products and service listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and service to the Government.

2. The action will result in authorizing small entities to furnish the products and service to the Government.

3. There are no known regulatory alternatives which would accomplish the objectives of the Javits-Wagner-O'Day Act (41 U.S.C. 46-48c) in connection with the products and service proposed for addition to the Procurement List.

End of Certification

Accordingly, the following products and service are added to the Procurement List:

Products

Product/NSN: CD/DVD Label Kit and Refills, 7530-00-NIB-0660 (Kit), 7530-00-NIB-0688 (Refill).

NPA: North Central Sight Services, Inc., Williamsport, Pennsylvania.

Contract Activity: Office Supplies & Paper Products Acquisition Center, New York, New York.

Product/NSN: Dustpan and Brush Set, M.R. 1020.

NPA: The Lighthouse for the Blind, Inc. (Seattle Lighthouse), Seattle, Washington.

Contract Activity: Defense Commissary Agency (DeCA), Ft. Lee, VA.

Product/NSN: GOJO/SKILCRAFT Hair & Body Shampoo, 8520-00-NIB-0028, 800 mL, 8520-00-NIB-0029, 2000 mL, 8520-00-NIB-0066, 1000 mL.

Product/NSN: GOJO/SKILCRAFT Lotion Hand Soap, 8520-00-NIB-0012, 12 oz., 8520-00-NIB-0024, 800 mL, 8520-00-NIB-0025, 2000 mL, 8520-00-NIB-0065, 1000 mL.

Product/NSN: GOJO/SKILCRAFT Natural Orange Hand Cleaner with Pumice, 8520-00-NIB-0069, .5 Gal, 8520-00-NIB-0070, 1 Gal.

Product/NSN: MICRELL/SKILCRAFT Antibacterial Hand Soap, 8520-00-NIB-0010, 800 mL, 8520-00-NIB-0027, 2000 mL, 8520-00-NIB-0067, 1000 mL.

Product/NSN: PURELL/SKILCRAFT Instant Hand Sanitizer, 8520-00-NIB-0008, 800 mL, 8520-00-NIB-0017, 2 oz., 8520-00-NIB-0058, 1000 mL.

Product/NSN: PURELL/SKILCRAFT Instant Hand Sanitizer with Aloe, 8520-00-NIB-0060, 4.25 oz., 8520-00-NIB-0061, 12 oz., 8520-00-NIB-0062, 800 mL, 8520-00-NIB-0063, 1000 mL.

Product/NSN: GOJO/SKILCRAFT Wall Dispenser, 4510-00-NIB-0001, 800 mL, 4510-00-NIB-0002, 2000 mL, 4510-00-NIB-0003, 1000 mL, 4510-00-NIB-0007, 1000 mL., 4510-00-NIB-0008, 800 mL, 4510-00-NIB-0009, 2000 mL.

Product/NSN: PURELL/SKILCRAFT Wall Dispenser, 4510-00-NIB-0005, 1000 mL, 4510-00-NIB-0006, 1000 mL.

NPA: Travis Association for the Blind, Austin, Texas.

Contract Activity: Office Supplies & Paper Products Acquisition Center, New York, New York.

Product/NSN: Hydration On-the-Move System, 8465-00-NIB-0071, Bravo 70 oz Woodland, 8465-00-NIB-0072, Bravo 70 oz Desert, 8465-00-NIB-0073, Bravo 70 oz Black Night Ops, 8465-00-NIB-0074, Delta 100 oz Woodland, 8465-00-NIB-0075, Delta 100 oz Desert, 8465-00-NIB-0076, Delta 100 oz Black Night Ops, 8465-00-NIB-0077, Alpha 120 oz Woodland, 8465-00-NIB-0078, Alpha 120 oz Desert, 8465-00-NIB-0079, Alpha 120 oz Black Night Ops, 8465-00-NIB-0092, Warrior 100 oz Woodland, 8465-00-NIB-0093, Warrior 100 oz Desert, 8465-00-NIB-0094, Warrior 100 oz Black Night Ops, 8465-00-NIB-0095, Sierra 100 oz Woodland, 8465-00-NIB-0096, Sierra 100 oz Desert, 8465-00-NIB-0097, Sierra 100 oz Black Night Ops.

Product/NSN: Canteen, One Quart, Flexible, 8465-00-NIB-0041, Echo 1 qt.

NPA: The Lighthouse for the Blind, Inc. (Seattle Lighthouse), Seattle, Washington.

Contract Activity: Office Supplies & Paper Products Acquisition Center, New York, New York.

Service

Service Type/Location: Grounds Maintenance, Darnall Army Community Hospital/Clinics (Buildings 420, 2242, 2245, 2255, 2250, 7015, 9440, 56503, 4222, 33001, 33003, 39033, 4441, 4909, 76022, 90043, 36000, 36001, 36007, 36014, 36017), Fort Hood, Texas.

NPA: Professional Contract Services, Inc., Austin, Texas.

Contract Activity: III Corps and Fort Hood Contracting Command, Fort Hood, Texas.

Deletions

On October 3, 2003, the Committee for Purchase From People Who Are Blind or Severely Disabled published notice (68 FR 57403/57404) of proposed deletions to the Procurement List. After consideration of the relevant matter presented, the Committee has determined that the products listed below are no longer suitable for procurement by the Federal Government under 41 U.S.C. 46-48c and 41 CFR 51-2.4.

Regulatory Flexibility Act Certification

I certify that the following action will not have a significant impact on a substantial number of small entities. The major factors considered for this certification were:

1. The action may result in any additional reporting, recordkeeping or other compliance requirements for small entities.

2. The action may result in authorizing small entities to furnish the products to the Government.

3. There are no known regulatory alternatives which would accomplish the objectives of the Javits-Wagner-O'Day Act (41 U.S.C. 46-48c) in connection with the products deleted from the Procurement List.

End of Certification

Accordingly, the following products are deleted from the Procurement List:

Products

Product/NSN: Cleaner, Water Soluble, 6840-01-367-2913, 7930-01-367-2964, 7930-01-367-2967, 7930-01-367-2968, 7930-01-367-2970.

NPA: Association for the Blind & Visually Impaired & Goodwill Industries of Greater Rochester, Rochester, New York.

Contract Activity: GSA, Southwest Supply Center, Fort Worth, Texas.

Product/NSN: Clipboard File, 7520-01-439-3404.

NPA: Industries of the Blind, Inc., Greensboro, North Carolina.

Contract Activity: Office Supplies & Paper Products Acquisition Center, New York, New York.

Sheryl D. Kennerly,
Director, Information Management.

[FR Doc. 03-29709 Filed 11-26-03; 8:45 am]

BILLING CODE 6353-01-P